DEPARTMENT OF JUSTICE

Antitrust Division

Notice Pursuant to the National Cooperative Research and Production Act of 1993—Institute of Electrical and Electronics Engineers

Notice is hereby given that, on September 17, 2004, pursuant to section 6(a) of the National Cooperative Research and Production Act of 1993, 15 U.S.C. 4301 et seq. (“the Act”), the Institute of Electrical and Electronics Engineers (“IEEE”) has filed written notifications simultaneously with the Attorney General and the Federal Trade Commission disclosing (1) the name and principal place of business of the standards development organization, and (2) the nature and scope of its standards development activities. The notifications were filed for the purpose of invoking the Act's provisions limiting the recovery of antitrust plaintiffs to actual damages under specified circumstances.

Pursuant to section 6(b) of the Act, the name and principal place of business of the standards development organization is: Institute of Electrical and Electronics Engineers, Piscataway, NJ. The nature and scope of IEEE's standards development activities are: To develop consensus standards through an open process that brings diverse parts of the electrical engineering industry together. Through its portfolio of more than 870 completed standards and over 400 in development, IEEE promotes the electrical engineering process by creating, developing, integrating, sharing and applying knowledge about electro- and information technologies and sciences.

Dorothy B. Fountain,
Deputy Director of Operations, Antitrust Division.

[FR Doc. 04-24561 Filed 11-2-04; 8:45 am]

BILLING CODE 4410-11-M